DEPARTMENT OF THE INTERIOR

Bureau of Land Management

[LLORM05000.L58820000.DF0000.LXRSMA130000.241A00.12X5485AF-HAG13-0226]

Notice of Temporary Restrictions on Public Lands Within the Table Rocks Management Area, Jackson County, OR

AGENCY: Bureau of Land Management, Interior.

ACTION: Notice.

SUMMARY: Notice is hereby given that a temporary restriction of uses is in effect on public lands administered by the Medford District Butte Falls Resource Area, Bureau of Land Management (BLM).

DATES: These Temporary Restrictions will be in effect from March 26, 2014 until published supplementary rules supersede this temporary use restriction notice or 24 months after publication in the Federal Register, whichever occurs first.

FOR FURTHER INFORMATION CONTACT: Jon Raby, Medford District Butte Falls Field Manager, 3040 Biddle Road, Medford, OR, 97504, and 541-618-2260. Persons who use a telecommunications device for the deaf (TDD) may call the Federal Information Relay Service (FIRS) at 1-800-877-8339 to contact the above individual during normal business hours. The FIRS is available 24 hours a day, 7 days a week, to leave a message or question with the above individual. You will receive a reply during normal hours.

SUPPLEMENTARY INFORMATION: This Temporary Restriction affects public lands at the Table Rocks in Jackson County, Oregon. The legal description of the affected public lands is:

Willamette Meridian, Jackson County, Oregon

T. 35 S., R. 2 W.

Secs. 25 and 26, lots 1 to 30 inclusive, all in LIVE OAK ORCHARD TRACTS, as platted and of record in the office of the county clerk of said county, TOGETHER WITH that portion of road that would inure by vacating order in commissioners journal Volume 29, Page 36, filed August 31, 1942.

Sec. 26, E½SW¼;

also all that part of the SE¼NW¼ lying South of State Highway 234.

Sec. 34, SE¼;

Sec. 35;

Sec. 36, all that part of the W½NW¼, lying and being Westerly of the Westerly line of Antioch Road (County Road).

also all that part of the N⅓SE¼NW¼, lying and being Westerly of the Westerly line of Antioch Road (County Road).

also Beginning at a 5/8″ iron rod on the South line of Southwest Quarter of Section 36, Township 35 South, Range 2 West of the Willamette Meridian, Jackson County, Oregon, from which the Southwest corner of said Section 36 bears North 89°55′00″ West, 1643.15 feet; thence North 00°02′35″ West, 1325.34 feet to a 5/8″ iron rod on the North line of the Southeast Quarter of the Southwest Quarter of said Section 36; thence South 89°53′22″ East, along said North line, 572.78 feet to a 5/8″ iron rod on the Westerly right of way line of Antioch Road; thence along said Westerly right of way line, along a 756.30 foot curve to the right (the long chord of which bears North 25°18′24″ West, 173.17 feet), 173.55 feet; thence continue along said Westerly right of way line, North 19°06′10″ West, 2174.68 feet to intersect the South line of the North One-Third of the Southeast Quarter of the Northwest Quarter of said Section 36; thence North 89°52′48″ West, along said South line, 105.26 feet to the East line of the Southwest Quarter of the Northwest Quarter of said Section 36; thence South 00°02′48″ East, along said East line, 884.89 feet to the Southeast corner of the Southwest Quarter of the Northwest Quarter of said Section 36, thence North 89°51′45″ West, along the South line of said Southwest Quarter of the Northwest Quarter, 1327.03 feet to the Northwest corner of the Southwest Quarter of Section 36; thence South 00°03′02″ East, along the West line of said Southwest Quarter, 2652.24 feet to the Southwest corner of said Section 36; thence South 89°55′00″ East, along the South line of said Southwest Quarter, 1643.15 feet to the true point of beginning.

T. 36 S., R. 2 W.

Sec. 1, S½NW¼, SW¼;

also all that part of the NW¼SE¼, lying and being Westerly of the Westerly line of Modoc Road (County Road).

Sec. 2, Commencing at the one quarter (¼) section corner of sections 2 and 11, T. 36 S., R. 2 W. of the Willamette Meridian, Jackson County, Oregon; thence N. 89°57′ E., along the south line of section 2, 474.00 feet to the True Point of Beginning; thence N. 0°21′ W., 5282 feet more or less to the north line of section 2, from which, the one quarter (¼) section corner of sections 2 and 35, Tps. 35 and 36 S., R. 2 W., bears West, 474.00 feet; thence East, along the north line of section 2, 2166 feet more or less to the corner of sections 1, 2, 35 and 36, Tps. 35 and 36 S., R. 2 W.; thence S. 0°17′ E., along the east line of section 2, 2640 feet more or less to the one quarter (¼) section corner of sections 1 and 2; thence S. 0°17′ E., continuing along the east line of section 2, 2640 feet more or less to the corner of sections 1, 2, 11 and 12; thence S. 89°57′ W., along the south line of section 2, 2160 feet more or less to the true point of beginning.

Sec. 4, NE¼SW¼;

Sec. 9, S½NW¼, SW¼;

The following non-Federal land will be included in the closure should it be acquired by the United States during the period of time the closure is in effect:

Willamette Meridian, Jackson County, Oregon

T. 36 S., R. 2 W.

Sec. 4, SE¼SW¼ and SW¼SW¼;

also, Beginning at a ¾ inch iron pipe monumenting the West One-Quarter corner of Section 4, Township 36 South, Range 2 West, Willamette Meridian, Jackson County, Oregon; thence North 00°33′00″ West along West boundary of said Section 4, a distance of 1320.865 feet to a brass cap monumenting the Northwest corner of the Southwest One-Quarter of the Northwest One-Quarter of said Section 4; thence South 89°52′15″ East along the North boundary of said Quarter-Quarter 584.03 feet to a ⅝ inch iron pin; thence South 05°08′33″ East 1096.68 feet to a ⅝ inch iron pin; thence South 50°00′00″ East 342.82 feet to a ⅝ inch iron pin located at the point of curve on the Northerly right of way boundary of a Dedicated Way; thence in a Southwesterly counter-clockwise direction along said right of way boundary along a 50.00 foot radius curve to the left (the long chord to which bears South 46°19′28″ West 69.06 feet) an arc length of 76.23 feet to a ⅝ inch iron pin at a point on curve; thence leaving said right of way boundary on a radial line from the center of said 50.00 foot radius curve North 87°21′03″ West 883.26 feet to the point of beginning.

also, Beginning at a ¾ inch iron pipe monumenting the West one-quarter corner of Section 4, Township 36 South, Range 2 West, Willamette Meridian, Jackson County, Oregon; thence on a radial line towards the center of a 50.00 foot radius cul-de-sac South 87°21′03″ East 883.26 feet to a ⅝ inch iron pin located on the arc of said 50.00 foot radius curve; thence in a Southeasterly counter-clockwise direction along said 50.00 foot radius curve to the left (the long chord to which bears South 11°40′29″ East 24.74 feet) an arc length of 25.00 feet to a ⅝ inch iron pin; thence leaving said cul-de-sac South 30°32′53″ West 573.36 feet to a ⅝ inch iron pin; thence South 05°25′37″ East 757.36 feet to a ⅝ inch iron pinwitness monument; thence continue South 05°25′37″ East 10.00 feet, more or less, to the South boundary of the North half of the Southwest quarter of Section 4; thence North 89°49′49″ West along the South boundary of said North half 655.80 feet to the Southwest corner thereof; thence North 00°33′00″ West along the West boundary of said Section 4, a distance of 1320.87 feet to the point of beginning.

also, Commencing at a ¾ inch iron pipe monumenting the West quarter corner of Section 4, Township 36 South, Range 2 West, Willamette Meridian, Jackson County, Oregon; thence on a radial line towards the center of a 50.00 foot radius cul-de-sac South 87°21′03″ East 883.26 feet to a ⅝ inch iron pin located on the arc of said 50.00 foot radius curve; thence in a Southeasterly, counter-clockwise direction, along said 50.00 foot radius curve to the left (the long chord to which bears South 11°40′29″ East 24.74 feet) an arc length of 25.00 feet to a ⅝ inch iron pin for the true point of beginning; thence continue along said 50.00 foot radius curve to the left (the long chord to which bears North 71°13′56″ East 99.20 feet) an arc length of 144.46 feet to a ⅝ inch iron pin; thence East 277.01 feet to a ⅝ inch iron pin; thence along the arc of an 80.00 foot radius curve to the right (the long chord to which bears South 80°54′09″ East 25.30 feet) an arc length of 25.41 feet to a ⅝ inch iron pin being a point of reverse curve; thence along the arc of a 120.00 foot radius curve to the left (the long chord to which bears South 80°50′04″ East 37.67 feet) an arc length of 37.82 feet to a ⅝ inch iron pin; thence South 89°51′50″ East 35.00 feet to a ⅝ inch iron pin; thence South 00°28′30″ East 1271.64 feet to a ⅝ inch iron pin witness monument; thence continue South 00°28′30″ East 10.0 feet, more or less, to the South boundary of the North half of the Southwest quarter of said Section 4; thence North 89°49′49″ West along the South boundary of said North half 697.57 feet to a point that bears South 05°25′37″ East from a ⅝ inch iron pin witness monument; thence leaving said South boundary North 05°25′37″ West 10.0 feet, more or less, to said ⅝ inch iron pin witness monument; thence continue North 05°25′37″ West 757.36 feet to a ⅝ inch iron pin; thence North 30°32′53″ East 573.36 feet to the true point of beginning.

Sec. 9, N½NW¼;

The temporary restrictions are necessary to protect cultural, historical, wildlife, and botanical resources on newly acquired and existing public lands within the Table Rocks Management Area until they can be inventoried and until the BLM can consider a permanent closure through the land use plan amendment process.

The BLM will post restriction signs at main entry points to this area. This Temporary Restriction notice will be posted in the Medford District Office. Maps of the affected area and other documents associated with this closure are available at www.blm.gov/or/districts/medford/plans/table/index.php, BLM_OR_MD_Mail@blm.gov, or 3040 Biddle Road, Medford, OR 97504, for the Medford District Butte Falls Resource Area. Under the authority of Section 303(a) of the Federal Land Policy and Management Act of 1976 (43 U.S.C. 1733(a)), 43 CFR 8360.0-7, and 43 CFR 8364.1, the BLM will enforce the following rule(s) within the Table Rocks Management Area:

1. You must not discharge firearms, gas- or air-powered weapons or simulated weapons, including paintball and paintball-like weapons, from or across BLM lands.

2. You must not use motorized vehicles or non-motorized mechanized vehicles that are propelled or powered by any means outside of trailhead parking areas.

3. You must not bring dogs or other domestic animals outside of the trailhead parking areas.

4. You must not bring or use metal detectors, or dig, scrape, disturb, or remove natural land features for any purpose.

The following persons are exempt from this order: Federal, State, and local officers and employees in the performance of their official duties; members of organized rescue or fire-fighting forces in the performance of their official duties; and persons with written authorization from the BLM.

Any person who violates the above rule(s) and/or restriction(s) may be tried before a United States Magistrate and fined no more than $1,000, imprisoned for no more than 12 months or both. Such violations may also be subject to the enhanced fines provided for by 18 U.S.C. 3571.

Authority: 43 CFR 8364.1.

Jon K. Raby,
Butte Falls Field Manager, Medford District.

[FR Doc. 2014-06718 Filed 3-25-14; 8:45 am]

BILLING CODE 4310-33-P